FEDERAL COMMUNICATIONS COMMISSION

47 CFR Part 73

[DA 00-1739; MM Docket No. 99-304; RM-9738]

Radio Broadcasting Services; Charlotte, Texas

AGENCY: Federal Communications Commission.

ACTION: Proposed rule; dismissal.

SUMMARY: This document dismisses a proposal filed by Charlotte Radio Broadcasting Company requesting the allotment of Channel 227A at Charlotte, Texas, as the community's first local broadcast service. See 64 FR 57836, October 27, 1999. As stated in the Notice, a showing of continuing interest is required before a channel will be allotted. Since there has been no interest expressed for the allotment of a channel at Charlotte, Texas, in response to the Notice of Proposed Rule Making, the Report and Order dismisses the proposal.

ADDRESSES: Federal Communications Commission, Washington, D.C. 20554.

FOR FURTHER INFORMATION CONTACT: Kathleen Scheuerle, Mass Media Bureau, (202) 418-2180.

SUPPLEMENTARY INFORMATION: This is a summary of the Commission's Report and Order, MM Docket No. 99-304, adopted July 26, 2000, and released August 4, 2000. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 00-21403 Filed 8-22-00; 8:45 am]

BILLING CODE 6712-01-P